DEPARTMENT OF HOMELAND SECURITY

Federal Emergency Management Agency

[FEMA-1539-DR]

Florida; Amendment No. 3 to Notice of a Major Disaster Declaration

AGENCY: Federal Emergency Management Agency, Emergency Preparedness and Response Directorate, Department of Homeland Security.

ACTION: Notice.

SUMMARY: This notice amends the notice of a major disaster for the State of Florida (FEMA-1539-DR), dated August 13, 2004, and related determinations.

DATES: Effective August 16, 2004.

FOR FURTHER INFORMATION CONTACT: Magda Ruiz, Recovery Division, Federal Emergency Management Agency, Washington, DC 20472, (202) 646-2705.

SUPPLEMENTARY INFORMATION: Notice is hereby given that, in a letter dated August 16, 2004, the President amended the cost-sharing arrangements concerning Federal funds provided under the authority of the Robert T. Stafford Disaster Relief and Emergency Assistance Act, 42 U.S.C. 5121-5206 (Stafford Act), in a letter to Michael D. Brown, Under Secretary for Emergency Preparedness and Response, Department of Homeland Security, on behalf of the Federal Emergency Management Agency, as follows:

I have determined that the damage in certain areas of the State of Florida, resulting from Tropical Storm Bonnie and Hurricane Charley beginning on August 11, 2004, and continuing, is of sufficient severity and magnitude that special conditions are warranted regarding the cost sharing arrangements concerning Federal funds provided under the Robert T. Stafford Disaster Relief and Emergency Assistance Act, 42 U.S.C. 5121-5206 (the Stafford Act).

Therefore, I amend my declaration of August 13, 2004, to authorize Federal funds for debris removal (Category A) and emergency protective measures (Category B) under Public Assistance at 100 percent Federal funding of total eligible costs for the first 72 hours, and 100 percent Federal funding for direct Federal assistance. The law specifically prohibits a similar adjustment for funds provided to States for the Individuals and Households Program and the Hazard Mitigation Grant Program. These funds will continue to be reimbursed at 75 percent of the total eligible costs.

This adjustment to State and local cost sharing applies only to Public Assistance costs eligible for such adjustment under the law.

Please notify the Governor of Florida and the Federal Coordinating Officer of this amendment to my major disaster declaration.

These cost shares are effective as of the date of the President's major disaster declaration.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individual and Household Housing; 97.049, Individual and Household Disaster Housing Operations; 97.050 Individual and Household Program—Other Needs, 97.036, Public Assistance Grants; 97.039, Hazard Mitigation Grant Program.)

Michael D. Brown,
Under Secretary, Emergency Preparedness and Response, Department of Homeland Security.

[FR Doc. 04-19332 Filed 8-23-04; 8:45 am]

BILLING CODE 9110-10-P